DEPARTMENT OF THE INTERIOR

Bureau of Land Management

[LLCAD06000.L51010000.ER0000.LVRWB20B6000.20X (MO# 4500154620)]

Notice of Intent To Amend the California Desert Conservation Area Plan for the Morongo Highway 62 Communication Site Project, San Bernardino County, CA

AGENCY: Bureau of Land Management, Interior.

ACTION: Notice of intent.

SUMMARY: In accordance with the National Environmental Policy Act of 1969, as amended (NEPA), and the Federal Land Policy and Management Act of 1976, as amended (FLPMA), the Bureau of Land Management (BLM) Palm Springs-South Coast Field Office in Palm Springs is proposing to amend the 1980 California Desert Conservation Area (CDCA) Plan, as amended, and prepare an associated environmental assessment for the Morongo Highway 62 Communication Site (Project). By this notice, the BLM is announcing the beginning of the scoping process to solicit public comments on issues and identified planning criteria.

DATES: This notice initiates the public scoping process for the CDCA Plan amendment and associated environmental assessment. Comments may be submitted in writing until March 21, 2022. The date(s) and location(s) of any scoping meetings will be announced at least 15 days in advance through local news media, newspapers, and the Project website: https://go.usa.gov/x6dCB.

To be included in the analysis, all comments must be received prior to the close of the 30-day scoping period. The BLM will provide at least two additional opportunities for public participation. A 30-day public comment period will be provided upon publication of the draft plan amendment environmental assessment. After the public-comment period and review concludes, the BLM will prepare a decision and initiate a 30-day protest period and 60-day Governor's Consistency Review.

ADDRESSES: You may submit comments on issues and planning criteria by any of the following methods:

• Email: BLM_CA_PS_MorongoCommunicationSite@blm.gov.

• Mail: ATTN: Matt Toedtli, Project Manager, BLM, 1201 Bird Center Drive, Palm Springs, CA 92262.

• Online via ePlanning at: https://go.usa.gov/x6dCB.

Documents pertinent to this project may be examined by contacting the project manager during regular business hours.

FOR FURTHER INFORMATION CONTACT: Matt Toedtli, Project Manager, telephone: (760) 833-7117, email: BLM_CA_PS_MorongoCommunicationSite@blm.gov. Persons who use a telecommunications device for the deaf (TDD) may call the Federal Relay Service (FRS) at (800) 877-8339 to contact Matt Toedtli during normal business hours. The FRS is available 24 hours a day, 7 days a week, to leave a message or question. You will receive a reply during normal business hours.

SUPPLEMENTARY INFORMATION: Interconnect Towers, LLC has requested a right-of-way grant on approximately 2.2 acres for the authorization to construct, operate, maintain, and decommission a communication site, access road, and necessary ancillary facilities on public lands managed by the BLM. The proposed project is located west of Highway 62 in Morongo Valley, California. The proposed project is within general public lands, as identified in the Desert Renewable Energy Conservation Plan (DRECP) amendment to the CDCA Plan.

The BLM published an environmental assessment for this project in January 2020, followed by a 15-day public comment period. One comment was received, which stated that the communication site would violate the Visual Resource Management (VRM) Class II objectives. The CDCA Plan, as amended, contains Conservation and Management Actions (CMAs) that are intended to avoid or minimize impacts to numerous resources within the plan area. Application of the relevant CMAs to the proposed project would preclude the ability to construct and operate the communication site in a VRM Class II designation. As such, the proposed project would require a plan amendment to allow the communication site to be constructed and operated within the application area.

This notice informs the public that the BLM intends to prepare a draft CDCA Plan amendment and revised environmental assessment. It also announces the beginning of the scoping process for this effort and seeks public input on the proposed land use plan amendment to change the project area from VRM Class II to VRM Class III and also seeks input on potential planning criteria relevant to the proposed project. The purpose of the public scoping process is to guide the planning process and determine the relevant issues that will influence the scope of the environmental analysis, including alternatives and mitigation measures. The BLM has identified one preliminary issue, which is the potential for adverse effects to visual resources based on established visual resource class objectives. Written comments may be submitted via one of the methods listed in the ADDRESSES section earlier. Input must be received by the close of the 30-day public-scoping period.

This notice also initiates a 30-day review of the BLM's identified proposed planning criteria (43 CFR 1610.4-2(b); 43 CFR 1610.2(f)(2)). The BLM will use these proposed planning criteria to help guide and define the scope of the plan amendment:

1. The plan amendment will be completed in compliance with FLPMA, NEPA, and all other relevant Federal laws, executive orders, and BLM policies.

2. Existing valid plan decisions will not change and any new plan decisions will not conflict with existing plan decisions.

3. The plan amendment will recognize valid existing rights.

With respect to the potential land use plan amendment, the BLM will evaluate identified issues and will place them into one of three categories:

(a) Issues to be resolved in the plan amendment.

(b) Issues to be resolved through policy or administrative action.

(c) Issues beyond the scope of this plan amendment.

The BLM will provide an explanation in the environmental assessment as to why an issue was placed in category two or three. The public is also encouraged to help identify any management questions and concerns that should be addressed in the environmental analysis.

The BLM will utilize and coordinate the NEPA scoping process to help fulfill the public-involvement process under the National Historic Preservation Act (54 U.S.C. 306108 and 36 CFR 800.2(d)(3)). The information about historic and cultural resources within the proposed project area will assist the BLM in identifying and evaluating impacts to such resources.

The BLM will consult with Indian Tribes on a government-to-government basis in accordance with Executive Order 13175 and other policies. Tribal concerns, including impacts on Indian trust assets and potential impacts to cultural resources, will be given due consideration. Federal, state, and local agencies, along with Tribes and other stakeholders that may be interested in or affected by the proposed project are invited to participate in the scoping process and, if eligible, may request or be requested by the BLM to participate in the development of the environmental assessment as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.7 and 43 CFR 1610.2)

Karen E. Mouritsen,
BLM California State Director.

[FR Doc. 2022-03475 Filed 2-17-22; 8:45 am]

BILLING CODE 4310-40-P